DEPARTMENT OF ENERGY

Federal Energy Regulatory Commission

[Docket Nos. EL07-104-000; EC07-134-000]

FPL Energy Mower County, LLC; FPL Energy Oliver Wind, LLC; FPL Energy Oliver Wind II, LLC ; Logan Wind Energy, LLC; Peetz Table Wind Energy, LLC; Peetz Logan Interconnect, LLC; Notice of Filing

September 28, 2007.

Take notice that on September 24, 2007, pursuant to section 203 of the Federal Power Act and Part 33 of the Commission's regulations, FPL Energy Mower County, LLC, FPL Energy Oliver Wind, LLC, FPL Energy Oliver Wind II, LLC, Logan Wind Energy, LLC, Peetz Table Wind Energy, LLC and Peetz Logan Interconnect, LLC (Applicants), filed an application for authorization for indirect upstream disposition of their jurisdictional facilities in connection with the issuance of new ownership interests in Northern Frontier Wind, LLC to Passive Investors. Applicants also seek a petition for disclaimer of jurisdiction of public utility status for Passive Investors.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 15, 2007.

Kimberly D. Bose,
Secretary.

[FR Doc. E7-19783 Filed 10-5-07; 8:45 am]

BILLING CODE 6717-01-P